DEPARTMENT OF ENERGY

Federal Energy Regulatory Commission

Combined Notice of Filings #1

Take notice that the Commission received the following electric rate filings:

Docket Numbers: ER10-2331-033; ER14-630-010; ER10-2319-025; ER10-2317-025; ER10-2326-031; ER14-1468-009; ER13-1351-007; ER10-2330-032.

Applicants: J.P. Morgan Ventures Energy Corporation, AlphaGen Power LLC, BE Alabama LLC, BE CA LLC, Cedar Brakes I, L.L.C., KMC Thermo, LLC, Florida Power Development LLC, Utility Contract Funding, L.L.C.

Description: Notice of Non-Material Change in Status of J.P. Morgan Sellers.

Filed Date: 7/15/15.

Accession Number: 20150715-5179.

Comments Due: 5 p.m. ET 8/5/15.

Docket Numbers: ER10-3297-006.

Applicants: Powerex Corp.

Description: Notice of Non-Material Change in Status of Powerex Corp.

Filed Date: 7/15/15.

Accession Number: 20150715-5183.

Comments Due: 5 p.m. ET 8/5/15.

Docket Numbers: ER13-1489-005; ER13-1488-003.

Applicants: Quantum Choctaw Power, LLC, Quantum Lake Power, LP, Quantum Pasco Power, LP.

Description: Supplement to December 23, 2014 Updated Market Power Analysis of the Quantum Entities.

Filed Date: 7/15/15.

Accession Number: 20150715-5181.

Comments Due: 5 p.m. ET 8/5/15.

Docket Numbers: ER15-518-003.

Applicants: Duke Energy Florida, Inc., Duke Energy Progress, Inc., Duke Energy Carolinas, LLC.

Description: Compliance filing: Order 676-H Compliance Filing to be effective 7/15/2015.

Filed Date: 7/15/15.

Accession Number: 20150715-5089.

Comments Due: 5 p.m. ET 8/5/15.

Docket Numbers: ER15-1407-002.

Applicants: Midcontinent Independent System Operator, Inc.

Description: Tariff Amendment: 2015-07-16_SA 2767 2nd Amendment to ATC-Manitowoc CFA to be effective 5/31/2015.

Filed Date: 7/16/15.

Accession Number: 20150716-5048.

Comments Due: 5 p.m. ET 8/6/15.

Docket Numbers: ER15-1411-002.

Applicants: Midcontinent Independent System Operator, Inc.

Description: Tariff Amendment: 2015-07-16_SA 2770 2nd Amendment to ATC-Sun Prairie CFA to be effective 5/31/2015.

Filed Date: 7/16/15.

Accession Number: 20150716-5045.

Comments Due: 5 p.m. ET 8/6/15.

Docket Numbers: ER15-1481-002.

Applicants: Midcontinent Independent System Operator, Inc.

Description: Tariff Amendment: 2015-07-16_SA 2776 2nd Amendment to ATC-Village of Prairie du Sac CFA to be effective 6/9/2015.

Filed Date: 7/16/15.

Accession Number: 20150716-5053.

Comments Due: 5 p.m. ET 8/6/15.

Docket Numbers: ER15-1482-002.

Applicants: Midcontinent Independent System Operator, Inc.

Description: Tariff Amendment: 2015-07-16_SA 2777 2nd Amendment to ATC-Wisconsin Rapids CFA to be effective 6/9/2015.

Filed Date: 7/16/15.

Accession Number: 20150716-5056.

Comments Due: 5 p.m. ET 8/6/15.

Docket Numbers: ER15-1483-002.

Applicants: Midcontinent Independent System Operator, Inc.

Description: Tariff Amendment: 2015-07-16_SA 2775 2nd Amendment to ATC-Marshfield CFA to be effective 6/9/2015.

Filed Date: 7/16/15.

Accession Number: 20150716-5051.

Comments Due: 5 p.m. ET 8/6/15.

Docket Numbers: ER15-1618-001.

Applicants: Duke Energy Florida, Inc.

Description: Compliance filing: DEF IA Annual Cost Factor Update Amendment to RS 91 to be effective 5/1/2015.

Filed Date: 7/16/15.

Accession Number: 20150716-5037.

Comments Due: 5 p.m. ET 8/6/15.

Docket Numbers: ER15-2212-000.

Applicants: Southwest Power Pool, Inc.

Description: Section 205(d) Rate Filing: Rate Schedule 13—Western Area Power Administration JOA Cancellation to be effective 12/31/9998.

Filed Date: 7/15/15.

Accession Number: 20150715-5151.

Comments Due: 5 p.m. ET 8/5/15.

Docket Numbers: ER15-2213-000.

Applicants: Portland General Electric Company.

Description: Compliance filing: 2nd NAESB V3 Standards Compliance Filing to be effective 5/15/2015.

Filed Date: 7/16/15.

Accession Number: 20150716-5055.

Comments Due: 5 p.m. ET 8/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2015.
Nathaniel J. Davis, Sr.,
Deputy Secretary.

[FR Doc. 2015-17917 Filed 7-21-15; 8:45 am]

BILLING CODE 6717-01-P